DEPARTMENT OF DEFENSE

Department of the Army

Availability for Exclusive, Partially Exclusive, or Non-Exclusive Licensing of U.S. Patent Concerning Noise Abatement Technology

AGENCY: Department of the Army, DoD.

ACTION: Notice of availability.

SUMMARY: The Department of the Army announces the general availability of exclusive, partially exclusive or non-exclusive licenses relative to a noise abatement technology as described in U.S. Patent No. 4,928,573, Fansler, et al., May 29, 1990, entitled “Silencer for saboted projectiles.” Licenses shall comply with 35 U.S.C. 209 and 37 CFR 404.

FOR FURTHER INFORMATION CONTACT: Michael D. Rausa, U.S. Army Research Laboratory, Office of Research and Technology Applications, ATTN: AMSRL-DP-T/Bldg. 459, Aberdeen Proving Ground, Maryland 21005-5425, Telephone: (410) 278-5028.

SUPPLEMENTARY INFORMATION: None.

Luz D. Ortiz,
Army Federal Register Liaison Officer.

[FR Doc. 02-7521 Filed 3-27-02; 8:45 am]

BILLING CODE 3710-08-M